ENVIRONMENTAL PROTECTION AGENCY

40 CFR Part 180

[EPA-HQ-OPP-2012-0001; FRL-9353-6]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before August 24, 2012.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), Mail Code: 28221T, 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: A contact person, with telephone number and email address, is listed at the end of each pesticide petition summary. You may also reach each contact person by mail at Biopesticides and Pollution Prevention Division (7511P) or Registration Division (7505P), Office of Pesticide Programs, Environmental Protection Agency, 1200 Pennsylvania Ave. NW., Washington, DC 20460-0001.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available online at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 2E8007. (EPA-HQ-OPP-2012-0303). Interregional Research Project Number 4 (IR-4), 500 College Road East, Suite 201W., Princeton, NJ 08540, requests to establish tolerances in 40 CFR part 180 for residues of the herbicide ethalfluralin, N-ethyl-N-(2-methyl-2-propenyl)-2,6-dinitro-4-(trifluoromethyl)benzenamine, in or on rapeseed, subgroup 20A at 0.05 parts per million (ppm), and sunflower, subgroup 20B at 0.05 ppm. Rapeseed/Canola—A residue method has been developed for the determination of ethalfluralin in rapeseed seed which utilizes capillary gas chromatography with mass selective detection (GC/MSD). Safflower—Adequate residue analytical methods are available for purposes of registration based upon the analytical method for sunflower. A GC method, Method I, with electron capture detection (ECD), is listed in the Pesticide Analytical Manual II (PAM, Vol. II, Section 180.416) for tolerance enforcement. Method I is applicable for analysis of ethalfluralin residues in/on sunflower seed. Contact: Sidney Jackson, (703) 305-7610, email address: jackson.sidney@epa.gov.

2. PP 2E8011. (EPA-HQ-OPP-2012-0304). Interregional Research Project Number 4 (IR-4), 500 College Road East, Suite 201W., Princeton, NJ 08540, requests to establish a tolerance in 40 CFR part 180 for residues of the herbicide trifluralin, (alpha, alpha, alpha-trifluoro-2,6-dinitro-N,N-dipropyl-p-toluidine), in or on oilseed, crop group 20 at 0.05 ppm. The reregistration requirements for residue analytical methods are fulfilled for plant commodities. Adequate methods are available for data collection and enforcement of tolerances for residues of trifluralin per se in/on plant commodities. The Pesticide Analytical Manual II (PAM, Vol. II, Section 180.207) lists four GC methods (designated as Methods I, II, III, and A) with ECD, as available for determination of trifluralin per se in/on plant commodities. Contact: Andrew Ertman, (703) 308-9367, email address: ertman.andrew@epa.gov.

3. PP 2E8013. (EPA-HQ-OPP-2012-0309). Interregional Research Project Number 4 (IR-4), 500 College Road East, Suite 201W., Princeton, NJ 08540, requests to establish tolerances in 40 CFR part 180 for residues of the herbicide clopyralid, (3,6-dichloro-2-pyrindinecarboxylic acid), in or on teff, forage at 9.0 ppm; teff, grain at 3.0 ppm; teff, straw at 9.0 ppm; and teff, hay at 9.0 ppm. Dow AgroSciences Method No. ACR 79.5 can be utilized to determine residues of clopyralid in teff in support of the proposed tolerance. This method determines clopyralid as the methyl ester by GC/ECD. This method has been successfully validated by EPA and has been published in PAM II. Contact: Laura Nollen, (703) 305-7390, email address: nollen.laura@epa.gov.

4. PP 2E8020. (EPA-HQ-OPP-2011-0758). Interregional Research Project Number 4 (IR-4), 500 College Road East, Suite 201W., Princeton, NJ 08540, requests to establish a tolerance in 40 CFR part 180 for residues of the herbicide sulfentrazone (N-[2,4-dichloro-5-[4-(difluoromethyl)-4,5-dihydro-3-methyl-5-oxo-1H-1,2,4-triazol-1-yl]phenyl]-methanesulfonamide) and its metabolites 3-hydroxymethyl-sulfentrazone (N-[2,4-dichloro-5-[4-(difluoromethyl)-4,5-dihydro-3-hydroxymethyl-5-oxo-1H-1,2,4-triazol-1-yl]phenyl]methanesulfonamide) and 3-desmethyl sulfentrazone (N-[2,4-dichloro-5-[4-(difluoromethyl)-4,5-dihydro-5-oxo-1H-1,2,4-triazol-1-yl]phenyl] methanesulfonamide), in or on soybean, vegetable, succulent (Edamame) at 0.15 ppm. The analytical method for sulfentrazone involves separate analyses for parent and its metabolites. The parent is analyzed by evaporation and reconstitution of the sample prior to analysis by LC/MS/MS GC/ECD. The metabolites samples were refluxed in the presence of acid and cleaned up with solid phase extraction prior to analysis by LC/MS/MS. Contact: Laura Nollen, (703) 305-7390, email address: nollen.laura@epa.gov.

5. PP 2E8021. (EPA-HQ-OPP-2012-0384). BASF Corporation, 26 Davis Drive, Research Triangle Park, NC 27709, requests to establish a tolerance in 40 CFR part 180 for residues of the herbicide imazapic (±)-2-[4,5-dihydro-4-methyl-4-(1-methylethyl)-5-oxo-1-H-imidazol-2-yl]-5-methyl-3-pyridinecarboxylic acid, in or on sugarcane at 0.01 ppm. The proposed analytical method for detecting residues of imazapic and the metabolites M715H001 (CL 263,284) and M715H002 (CL 189,215) in sugarcane is an LC/MS/MS method. The analytical method for analysis in meat and meat by-products is based on capillary electrophoreses with confirmation by LC/MS. The analytical method for analysis in milk and fat is based on determination by LC/MS with confirmation by LC/MS/MS. Contact: Mindy Ondish, (703) 605-0723, email address: ondish.mindy@epa.gov.

6. PP 2E8029. (EPA-HQ-OPP-2012-0420). Interregional Research Project Number 4 (IR-4), 500 College Road East, Suite 201W., Princeton, NJ 08540, requests to establish tolerances in 40 CFR part 180 for the combined residues of the insecticide indoxacarb, (S)-methyl 7-chloro-2,5-dihydro-2-[[(methoxycarbonyl)[4-(trifluoromethoxy) phenyl]amino]carbonyl]-indeno[1,2e]-[1,3,4]oxadiazine-4a(3H)- carboxylate and its R-enantiomer (R)-methyl-7-chloro-2,5-dihydro-2-[[(methoxycarbonyl)[4-(trifluoromethoxy) phenyl]amino]carbonyl]-indeno [1,2-e] [1,3,4] oxadiazine-4a(3H)- carboxylate in a 75:25 mixture (DPX-MP062), respectively, in or on bean, dry, seed at 0.07 ppm; bean, succulent at 0.64 ppm; bean, forage at 37 ppm; small fruit, vine climbing, except fuzzy kiwifruit, subgroup 13-07F at 2.0 ppm; and berry, low growing, except strawberry, subgroup 13-07H at 0.9 ppm. The plant residue enforcement method detects and quantitates indoxacarb in various matrices including sweet corn, lettuce, tomato, broccoli, apple, grape, cottonseed, tomato, peanut and soybean commodity samples by high performance liquid chromatography-ultraviolet (HPLC-UV). The limit of quantitation in the method allows monitoring of crops with indoxacarb residues at or above the levels proposed in these tolerances. Contact: Laura Nollen, (703) 305-7390, email address: nollen.laura@epa.gov.

7. PP 2E8035. (EPA-HQ-OPP-2012-0429). BASF Corporation, 26 Davis Drive, P.O. Box 13528, Research Triangle Park, NC 27709-3528, requests to establish a tolerance in 40 CFR part 180 for residues of the herbicide quinclorac (3,7-dichloro-8-quinolinecarboxylic acid), in or on canola at 1.0 ppm. No tolerances are proposed for the processed commodities, meal and refined oil, as no concentration of quinclorac residues is expected in these commodities. An adequate analytical method for enforcement of the tolerances exists. The analytical method used for quantitative determinations was designed to measure quinclorac residues present as the parent compound. Contact: Erik Kraft, (703) 308-9358, email address: kraft.eric@epa.gov.

8. PP 0F7777. (EPA-HQ-OPP-2010-0889). Dow AgroSciences LLC, c/o Dow AgroSciences, 9330 Zionsville Road, Indianapolis, IN 46268, requests to establish tolerances in 40 CFR part 180 for residues of the insecticide sulfoxaflor (1-(6-trifluoromethylpyridin-3-yl)ethyl](methyl)-oxido-λ4-sulfanylidenecyanamide), in or on Crop group 1, subgroup 1A, 1B. Root Vegetables at 0.05 ppm; (from carrot, roots at 0.05 ppm; beet, sugar, roots at 0.03 ppm; radish, roots at 0.03 ppm); carrot, juice at 0.15 ppm; beet, sugar, raw sugar at 0.04 ppm; beet, sugar, molasses at 0.3 ppm; beet, sugar, thick juice at 0.15 ppm; beet, sugar, dried pulp at 0.07 ppm; subgroup 1C, 1D. Tuberous and Corm Vegetables at 0.01 ppm; potato at 0.01 ppm; potato, wet peel at 0.02 ppm; potato, chips at 0.02 ppm; potato, dried at 0.02 ppm; potato, granules/flakes at 0.02 ppm; Crop group 2. Leaves of Root and Tuber Vegetables at 4 ppm; (from carrot, tops at 4 ppm; beet, sugar, tops at 3 ppm; radish, tops at 0.7 ppm); Crop group 3, subgroup 3-07A Bulb vegetables, Onion, bulb, subgroup at 0.01 ppm; (from onion, dry bulb at 0.01 ppm); subgroup 3-07B Bulb Vegetables, Onion, green, subgroup at 0.6 ppm; (from onion, green at 0.6 ppm); Crop group 4, subgroup 4A. Leafy Vegetables (except Brassica), Leafy greens, subgroup at 5 ppm; (from leafy greens at 1.6 ppm); subgroup 4B. Leafy Vegetables (except Brassica), Leafy petioles, subgroup at 1 ppm; (from celery at 1 ppm); Crop group 5, subgroup 5A. Brassica Leafy Vegetables, head and stem (except cauliflower) at 1 ppm; (from cauliflower at 0.08 ppm; broccoli at 0.45 ppm; cabbage at 1 ppm); subgroup 5B. Brassica Leafy Vegetables, (from mustard greens at 1.6 ppm); green bean, snap, succulent at 0.7 ppm; beans, dry at 0.25 ppm; Crop group 8. Fruiting Vegetables (except cucurbits, plus okra) at 1.2 ppm (from tomato at 0.45 ppm; pepper, bell and non-bell at 1.2 ppm); tomato, puree at 0.7 ppm; tomato, paste at 1.6 ppm; tomato, catsup at 0.8 ppm; Crop group 9. Cucurbit Vegetables (except squash) at 0.3 ppm; (from cucumber at 0.3 ppm; melon at 0.3 ppm); squash at 0.03 ppm; Crop group 10. Citrus Fruits at 0.6 ppm; (from orange at 0.6 ppm; lemon at 0.45 ppm; grapefruit at 0.25 ppm); citrus, peel at 1 ppm; citrus, dried pulp, at 0.9 ppm; Crop group 11. Pome Fruits at 0.4 ppm; (from apple at 0.3 ppm; pear at 0.4 ppm); apple, dried pomace at 1.3 ppm; Crop Group 12. Stone Fruits (except cherry) at 0.6 ppm; (from nectarine, pitted fruit at 0.3 ppm; peach, pitted fruit at 0.6 ppm; plum, pitted fruit at 0.25 ppm); cherry, pitted fruit at 2.5 ppm; cherry, dried cherry at 15 ppm; Crop group 13, subgroup 13-07F. Small Fruit Vine Climbing subgroup, (except fuzzy kiwifruit) at 1.3 ppm; (from grape at 1.3 ppm); grape, raisins at 5 ppm; subgroup 13-07G Low Growing Berry subgroup at 0.6 ppm; (from strawberry, fruit at 0.6 ppm); Crop group 14. Tree Nuts (plus pistachio) at 0.02 ppm; (from almond at 0.02 ppm; pistachio at 0.02 ppm; pecan at 0.01 ppm); almond, hulls at 4 ppm; Crop group 20, subgroup 20-A. Rapeseed subgroup at 0.25 ppm; (from canola, seeds at 0.25 ppm); canola, meal at 0.5 ppm; subgroup 20C. Cottonseed subgroup at 0.2 ppm; (from cotton, seed at 0.2 ppm); cotton, hulls at 0.4 ppm; cotton, gin byproducts at 8 ppm; cotton, aspirated grain fractions at 4.6 ppm; wheat, grain at 0.07 ppm; wheat, forage at 0.8 ppm; wheat, hay at 1.1 ppm; wheat, straw at 2 ppm; barley, grain at 0.15 ppm; barley hay at 0.8 ppm; barley straw at 1.5 ppm; barley malt sprouts at 0.2 ppm; soybean, seed at 0.2 ppm; soybean hay at 1.8 ppm; soybean, forage at 1.9 ppm; soybean hulls at 0.3 ppm; soybean, meal, toasted at 0.3 ppm; soybean, aspirated grain fractions at 18 ppm. Tolerances of unchanged parent, XDE-208 are also proposed for milk at 0.08 ppm; fat of cattle, goat, horse and sheep at 0.04 ppm; kidney of cattle, goat, horse and sheep at 0.2 ppm; meat of cattle, goat, horse and sheep at 0.1 ppm; meat byproducts of cattle, goat, horse and sheep at 0.25 ppm; fat and meat of hog at 0.01 ppm; meat byproducts of hog at 0.04 ppm; egg at 0.01 ppm; fat and meat of poultry at 0.01 ppm; meat byproduct of poultry at 0.03 ppm. The residue profile of sulfoxaflor is adequately understood and an acceptable analytical method is available for enforcement purposes. Analytical method 091116, “Enforcement Method for the Determination of Sulfoxaflor (XDE-208) and its Main Metabolites in Agricultural Commodities using Offline Solid-Phase Extraction and Liquid Chromatography with Tandem Mass Spectrometry Detection” was validated on a variety of plant matrices. Contact: Jennifer Urbanski, (703) 347-0156, email address: urbanski.jennifer@epa.gov.

9. PP 2F7977. (EPA-HQ-OPP-2012-0242). ISK Biosciences Corporation, 7470 Auburn Road, Suite A, Concord, Ohio 44077, requests to establish tolerances in 40 CFR part 180 for residues of the fungicide fluazinam, in or on soybean, seed at 0.01 ppm; and soybean, hulls at 0.02 ppm. An analytical method using LC-MS/MS for the determination of fluazinam and AMGT residues on soybeans has been developed and validated. The method involves solvent extraction followed by liquid-liquid partitioning and concentration prior to a final purification. Contact: Dominic Schuler, (703) 347-0260, email address: schuler.dominic@epa.gov.

10. PP 2F7999. (EPA-HQ-OPP-2012-0291). Makhteshim-Agan of North America, Inc., 3120 Highwoods Blvd., Suite 100, Raleigh, NC 27604, requests to establish tolerances in 40 CFR part 180 for residues of the insecticide novaluron, (N -[[[3-chloro-4-[1,1,2-trifluoro-2-(trifluoromethoxy)ethoxy]phenyl]amino]carbonyl]-2,6-difluorobenzamide), in or on peanuts at 0.01 ppm; and soybean, seed at 0.06 ppm. An adequate analytical enforcement method, GC/ECD and a HPLC/UV for enforcing tolerances of novaluron residues in or on different matrices are available. Contact: Jennifer Gaines, (703) 305-5967, email address: gaines.jennifer@epa.gov.

11. PP 2F8006. (EPA-HQ-OPP-2012-0301). Syngenta Crop Protection, LLC, P.O. Box 18300, Greensboro, NC 27419-8300, requests to establish tolerances in 40 CFR part 180 for residues of the herbicide simazine: 6-chloro-N, N′-diethyl-1,3,5-triazine-2,4-diamine, in or on citrus fruits (Crop Group 10) at 0.05 ppm; pome fruits (Crop Group 11) at 0.03 ppm; stone fruits (Crop Group 12) at 0.10 ppm; and tree nuts (Crop Group 14, except almond hull) at 0.07 ppm. Analytical methods, AG-539 “Determination of Simazine, G-28279, and G-28273 Residues in Vegetables, Fruit, Grains, and Crop Fractions using Capillary Gas Chromatography,”; AG-497 “Determination of Simazine, C-28279 and G-28273 Residues in Milk (including Sour Milk) Using a Strong Cation Exchange Column Isolation and Cleanup”; and AG-540 “Determination of Simazine, Atrazine, G-30033, G-28279 and G-28273 Residues in Beef Tissues, Poultry Tissues and Poultry Eggs Using Capillary Gas Chromatography” are available for enforcement purposes with limits of detection that allows monitoring of food with residues at or above the levels set in these tolerances. For data submitted with this petition, the method used was based on the Syngenta Crop Protection Method entitled, “Analytical Method GRM052.01A for the Determination of Simazine, G28273, and G28279 in Crops—Final Determination by LC-MS/MS”. Contact: Hope Johnson, (703) 305-5410, email address: johnson.hope@epa.gov.

12. PP 2F8023. (EPA-HQ-OPP-2012-0431). United Phosphorus, Inc., 630 Freedom Business Center, Suite 402, King of Prussia, PA 19406, requests to establish tolerances in 40 CFR part 180 for residues of the herbicide endothall, mono (N,N-dimethylalkylamine) salt of endothall, and the dipotassium salt of endothall, in or on apple at 0.05 ppm; and apple, pomace at 0.15 ppm. The samples were analyzed using GC/ECD with a DB-1701 column. In summary, the endothall residues in apples were extracted with acidified acetonitrile, purified on an HPLC column, derivatized with heptaflouro-p-tolylhydrazine (HFTH), cleaned up, then analyzed using GC/ECD. Additionally, an adequate method for purposes of enforcement of the proposed endothall tolerances is available. The method uses an HPLC/MSD system. An alternative enforcement method is listed as Method I in the PAM, Volume II for the determination of endothall in plant commodities. The commodities are extracted, derivatized, and analyzed with a GC with a nitrogen-specific detector. Contact: Grant Rowland, (703) 347-0254, email address: rowland.grant@epa.gov.

13. PP 2F8026. (EPA-HQ-OPP-2012-0439). K-I CHEMICAL U.S.A., INC., c/o Landis International, Inc., P. O. Box 5126, Valdosta, GA 31603-5126, requests to establish tolerances in 40 CFR part 180 for residues of the herbicide pyroxasulfone (3-[(5-(difluoromethoxy)-1-methyl-3-(trifluoromethyl) pyrazole-4-ylmethylsulfonyl]-4,5-dihydro-5,5-dimethyl-1,2-oxazole), in or on wheat, grain at 0.01 ppm; pyroxasulfone (3-[(5-(difluoromethoxy)-1-methyl-3-(trifluoromethyl) pyrazole-4-ylmethylsulfonyl]-4,5-dihydro-5,5-dimethyl-1,2-oxazole) and its metabolites M-1 (5-difluoromethoxy-1-methyl-3-trifluoromethyl-1H-pyrazol-4-ylmethanesulfonic acid and M-25 (5-difluoromethoxy-3-trifluoromethyl-1H-pyrazol-4-yl)methanesulfonic acid) calculated as the stoichiometric equivalent of pyroxasulfone, in or on wheat, grain at 0.6 ppm; and pyroxasulfone (3-[(5-(difluoromethoxy)-1-methyl-3-(trifluoromethyl) pyrazole-4-ylmethylsulfonyl]-4,5-dihydro-5,5-dimethyl-1,2-oxazole) and its metabolites M-1 (5-difluoromethoxy-1-methyl-3-trifluoromethyl-1H-pyrazol-4-ylmethanesulfonic acid), M-3 (5-difluoromethoxy-1-methyl-3-trifluoromethyl-1H-pyrazol-4-carboxylic acid), and M-25 (5-difluoromethoxy-3-trifluoromethyl-1H-pyrazol-4-yl)methanesulfonic acid) calculated as the stoichiometric equivalent of pyroxasulfone in or on wheat, forage at 6.0 ppm and wheat, hay at 1.0 ppm. EPA has approved an analytical enforcement methodology including LC/MS/MS to enforce the tolerance expression for pyroxasulfone. Contact: Michael Walsh, (703) 308-2972, email address: walsh.michael@epa.gov.

Amended Tolerances

1. PP 2E8029. (EPA-HQ-OPP-2012-0420). Interregional Research Project Number 4 (IR-4), 500 College Road East, Suite 201W., Princeton, NJ 08540, requests to amend the tolerances in 40 CFR 180.564 for the combined residues of the insecticide indoxacarb, (S)-methyl 7-chloro-2,5-dihydro-2-[[(methoxycarbonyl)[4-(trifluoromethoxy) phenyl]amino]carbonyl]-indeno[1,2e]-[1,3,4]oxadiazine-4a(3H)- carboxylate and its R-enantiomer (R)-methyl-7-chloro-2,5-dihydro-2-[[(methoxycarbonyl)[4-(trifluoromethoxy) phenyl]amino]carbonyl]-indeno [1,2-e] [1,3,4] oxadiazine-4a(3H)- carboxylate in a 75:25 mixture (DPX-MP062), respectively, by removing the following established tolerances in or on grape at 2.0 ppm and cranberry at 0.90 ppm, upon approval of the updated crop groups or subgroups listed under “New Tolerance” for PP 2E8029. Contact: Laura Nollen, (703) 305-7390, email address: nollen.laura@epa.gov.

2. PP 1F7930. (EPA-HQ-OPP-2012-0225). Bayer CropScience, 2 T.W. Alexander Drive, P.O. Box 12014, Research Triangle Park, NC 27709, requests to amend 40 CFR 180.555 by changing an existing tolerance for residues of the fungicide trifloxystrobin (benzeneacetic acid, (E,E)-α-(methoxyimino)-2-[[[[1-[3-(trifluoromethyl)phenyl]ethylidene]amino]oxy] methyl]-methyl ester) and the free form of its acid metabolite CGA-321113 ((E,E)-methoxyimino-[2-[1-(3-trifluoromethyl-phenyl)-ethylideneaminooxymethyl]-phenyl] acetic acid), in or on almond, hulls from 3.0 ppm to 9.0 ppm. A practical analytical methodology for detecting and measuring levels of trifloxystrobin in or on raw agricultural commodities has been submitted. The method is based on crop specific cleanup procedures and determination by GC with nitrogen-phosphorus detection (NPD). A newer analytical method is available employing identical solvent mixtures and solvent to matrix ratio (as the first method), deuterated internal standards, and LC/MS-MS with an electrospray interface, operated in the positive ion mode. Contact: Dominic Schuler, (703) 347-0260, email address: schuler.dominic@epa.gov.

3. PP 1F7952. (EPA-HQ-OPP-2012-0326). Bayer CropScience, 2 T.W. Alexander Drive, P.O. Box 12014, Research Triangle Park, NC 27709, requests to amend 40 CFR 180.608 by changing existing tolerances for residues of the insecticide spirodiclofen (3-(2,4-dichlorophenyl)-2-oxo-1-oxaspiro[4.5]dec-3-en-4-yl 2,2-dimethylbutanoate), in or on apple, wet pomace from 2.0 ppm to 2.4 ppm; and grape, raisin from 4.0 ppm to 6.0 ppm. Bayer also requested that the currently established tolerance for grape juice at 2.4 ppm be deleted. Adequate analytical methodology using liquid chromatography with tandem mass spectrometry (LC/MS/MS) detection is available for enforcement purposes. Contact: Rita Kumar, (703) 308-8291, email address: kumar.rita@epa.gov.

4. PP 2F7996. (EPA-HQ-OPP-2012-0302). Monsanto Company, 1300 I Street NW., Suite 450 East, Washington DC 20005, (a member of the Acetochlor Registration Partnership, ARP), requests to amend the tolerances in 40 CFR 180.470 (d) by removing the exception for rice from two existing tolerances for indirect or inadvertent residues of the insecticide, acetochlor (2-chloro-2′-methyl-6′-ethyl-N-ethoxymethylacetanilide) and its metabolites containing either the 2-ethyl-6-methylaniline (EMA) or the 2-(1-hydroxyethyl)-6- methyl-aniline (HEMA) moiety, to be expressed as acetochlor equivalents, in or on the following raw agricultural commodities when present therein as a result of the application of acetochlor to soil or growing crops in paragraph (a) of 40 CFR 180.470, as: Grain, cereal, forage, fodder and straw, group 16, except corn, grain sorghum, and wheat, straw at 0.3 ppm; and Grain, cereal, group 15, except corn, grain sorghum, and wheat, grain at 0.05 ppm. An adequate enforcement method for residues of acetochlor in crops has been approved. Acetochlor and its metabolites are hydrolyzed to either EMA or HEMA, which are determined by high performance liquid chromatography- HPLC-OCED and expressed as acetochlor equivalents. Contact: Kable Davis, (703) 306-0415, email address: davis.kable@epa.gov.

5. PP 2F8006. (EPA-HQ-OPP-2012-0301). Syngenta Crop Protection, LLC, P.O. Box 18300, Greensboro, NC 27419-8300, requests to amend the tolerances in 40 CFR 180.213 for residues of the herbicide simazine: 6-chloro-N, N′-diethyl-1,3,5-triazine-2,4-diamine, in or on almond, hulls from 0.25 ppm to 3.0 ppm; and to remove individual tolerances in or on apple, hazelnut, peach, pecan, plum and walnut (established tolerances at 0.20 ppm); and almond, cherry, grapefruit, lemon, macadamia nut, orange and pear (established tolerances at 0.25 ppm). Analytical methods, AG-539 “Determination of Simazine, G-28279, and G-28273 Residues in Vegetables, Fruit, Grains, and Crop Fractions using Capillary Gas Chromatography,”; AG-497 “Determination of Simazine, C-28279 and G-28273 Residues in Milk (including Sour Milk) Using a Strong Cation Exchange Column Isolation and Cleanup”; and AG-540 “Determination of Simazine, Atrazine, G-30033, G-28279 and G-28273 Residues in Beef Tissues, Poultry Tissues and Poultry Eggs Using Capillary Gas Chromatography” are available for enforcement purposes with limits of detection that allows monitoring of food with residues at or above the levels set in these tolerances. For data submitted with this petition, the method used was based on the Syngenta Crop Protection Method entitled, “Analytical Method GRM052.01A for the Determination of Simazine, G28273, and G28279 in Crops—Final Determination by LC-MS/MS”. Contact: Hope Johnson, (703) 305-5410, email address: johnson.hope@epa.gov.

New Tolerance Exemptions

1. PP 2E7990. (EPA-HQ-OPP-2012-0287). Arristec, Inc., 135 Old River Road, Milford, NJ 08848 requests to establish an exemption from the requirement of a tolerance for residues of Diisopropyl Naphthalene (DIPN) (CAS No. 38640-62-9) when used as a pesticide inert ingredient in pesticide formulations under 40 CFR 180.910 pre- and post-harvest, and 40 CFR 180.930 Animal Uses. Diisopropyl Naphthalene (DIPN) (CAS No. 38640-62-9) is already approved as a pesticide inert ingredient for non-food uses. The petitioner believes no analytical method is needed because it is not required for the establishment of a tolerance exemption for inert ingredients. Contact: Lisa Austin, (703) 305-7894, email address: austin.lisa@epa.gov.

2. PP 2E7995. (EPA-HQ-OPP-2012-0278). Stepan Company, 22 West Frontage Road, Northfield, IL 60093, requests to establish an exemption from the requirement of a tolerance for fatty acids, tall-oil, ethoxylated propoxylated (CAS No. 67784-86-5; 2009 amu) when used as a pesticide inert ingredient as a surfactant without limitations in pesticide formulations under CFR 180.960 in or on all raw agricultural commodities. Stepan Company is petitioning that fatty acids, tall-oil, ethoxylated propoxylated (CAS No.: 67784-86-5; 2009 amu) be exempt from the requirement of a tolerance based upon the definition of a low-risk polymer under 40 CFR 723.250. Therefore, an analytical method to determine residues on treated crops is not relevant. Contact: William Cutchin, (703) 305-7990, email address: cutchin.william@epa.gov.

3. PP 2E8000. (EPA-HQ-OPP-2012-0279). Stepan Company, 22 West Frontage Road, Northfield, IL 60093, requests to establish an exemption from the requirement of a tolerance for residues of α-(ρ-Nonylphenyl)poly(oxypropylene) block polymer with poly(oxyethylene) (CAS No. 37251-69-7; Mn = 1889 Daltons) when used as a pesticide inert ingredient as a surfactant in pesticide formulations under CFR 180.960 in or on all raw agricultural commodities without limitations. Stepan Company is petitioning that α-(p -Nonylphenyl)poly(oxypropylene) block polymer with poly(oxyethylene) (CAS# 37251-69-7; Mn=1889 Daltons) be exempt from the requirement of a tolerance based upon the definition of a low-risk polymer under 40 CFR 723.250. Therefore, an analytical method to determine residues on treated crops is not relevant. Contact: William Cutchin, (703) 305-7990, email address: cutchin.william@epa.gov.

4. PP 2F8014. (EPA-HQ-OPP-2012-0389). Vestaron Corporation, 4717 Campus Drive, Suite 1200, Kalamazoo, MI 49008, requests to establish an exemption from the requirement of a tolerance for residues of the insecticide GS-U-ACTX-Hvla-SEQ2, in or on ornamental plants, turf and edible crops. The petitioner believes no analytical method is needed because it is expected that, when used as proposed, GS-U-ACTX-Hvla-SEQ2, would not result in residues that are of toxicological concern. Contact: Susanne Cerrelli, (703) 308-8077, Biopesticides and Pollution Prevention Division (7511P), email address: cerrelli.susanne@epa.gov.

List of Subjects

Environmental protection, Agricultural commodities, Feed additives, Food additives, Pesticides and pests, Reporting and recordkeeping requirements.

Dated: July 17, 2012.
Daniel J. Rosenblatt,
Acting Director, Registration Division, Office of Pesticide Programs.

[FR Doc. 2012-17899 Filed 7-24-12; 8:45 am]

BILLING CODE 6560-50-P